FEDERAL COMMUNICATIONS COMMISSION

[CC Docket No. 92-237; DA 11-745]

Next Meeting of the North American Numbering Council

AGENCY: Federal Communications Commission.

ACTION: Notice.

SUMMARY: The Commission released a public notice announcing the meeting and agenda of the North American Numbering Council (NANC). The intended effect of this action is to make the public aware of the NANC's next meeting and agenda.

DATES: Tuesday, May 17, 2011, 9:30 a.m.

ADDRESSES: Requests to make an oral statement or provide written comments to the NANC should be sent to Deborah Blue, Competition Policy Division, Wireline Competition Bureau, Federal Communications Commission, Portals II, 445 Twelfth Street, SW., Room 5-C162, Washington, DC 20554.

FOR FURTHER INFORMATION CONTACT: Deborah Blue, Special Assistant to the Designated Federal Officer (DFO) at (202) 418-1466 or Deborah.Blue@fcc.gov. The fax number is: (202) 418-1413. The TTY number is: (202) 418-0484.

SUPPLEMENTARY INFORMATION: This is a summary of the Commission's document in CC Docket No. 92-237, DA 11-745 released April 26, 2011. The complete text in this document is available for public inspection and copying during normal business hours in the FCC Reference Information Center, Portals II, 445 12th Street, SW., Room CY-A257, Washington, DC 20554. The document may also be purchased from the Commission's duplicating contractor, Best Copy and Printing, Inc., 445 12th Street, SW., Room CY-B402, Washington, DC 20554, telephone (800) 378-3160 or (202) 863-2893, facsimile (202) 863-2898, or via the Internet at http://www.bcpiweb.com. It is available on the Commission's Web site at http://www.fcc.gov.

The North American Numbering Council (NANC) has scheduled a meeting to be held Tuesday, May 17, 2011, from 9:30 a.m. until 5 p.m. The meeting will be held at the Federal Communications Commission, Portals II, 445 Twelfth Street, SW., Room TW-C305, Washington, DC. This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting. People with Disabilities: To request materials in accessible formats for people with disabilities (braille, large print, electronic files, audio format), send an e-mail to fcc504@fcc.gov or call the Consumer and Governmental Affairs Bureau at 202-418-0530 (voice), 202-418-0432 (tty). Reasonable accommodations for people with disabilities are available upon request. Include a description of the accommodation you will need, including as much detail as you can. Also include a way we can contact you if we need more information. Please allow at least five days advance notice; last minute requests will be accepted, but may be impossible to fill.

Proposed Agenda: Tuesday, May 17, 2011, 9:30 a.m.*

1. Announcements and Recent News.

2. Approval of Transcript—Meeting of March 9, 2011.

3. Report of the North American Numbering Plan Administrator (NANPA).

4. Report of the National Thousands Block Pooling Administrator (PA).

5. Report of the Numbering Oversight Working Group (NOWG).

6. Report of the North American Numbering Plan Billing and Collection (NANP B&C) Agent.

7. Report of the Billing and Collection Working Group (B&C WG).

8. Report of the North American Portability Management LLC (NAPM LLC).

9. Implementation of FCC Order on LNPA Selection Process.

10. Report of the Local Number Portability Administration (LNPA) Working Group.

11. Status of the Industry Numbering Committee (INC) activities.

12. Report of the Future of Numbering Working Group (FoN WG).

13. Summary of Action Items.

14. Public Comments and Participation (5 minutes per speaker).

15. Other Business.

Adjourn no later than 5 p.m.

*The Agenda may be modified at the discretion of the NANC Chairman with the approval of the DFO.

Federal Communications Commission.
Deborah Blue,
Program Analyst, Wireline Competition Bureau.

[FR Doc. 2011-10606 Filed 4-29-11; 8:45 am]

BILLING CODE 6712-01-P